NUCLEAR REGULATORY COMMISSION

[Docket No. 50-423]

Northeast Nuclear Energy Company, et al., Millstone Nuclear Power Station, Unit 3; Notice of Consideration of Approval of Transfer of Facility; Operating License and Conforming Amendment, and Opportunity for a Hearing; Correction

AGENCY: Nuclear Regulatory Commission.

ACTION: Correction.

SUMMARY: This document corrects a notice appearing in the Federal Register on January 19, 2000 (64 FR 2990). This action is necessary to correct the comment period expiration dates.

FOR FURTHER INFORMATION CONTACT: David L. Meyer, Chief, Rules and Directives Branch, Division of Administrative Services, Office of Administration, Washington, D.C. 20555-0001, telephone 301-415-7162, e-mail dlm1@nrc.gov.

SUPPLEMENTARY INFORMATION: 1. On page 2991, in the second column, the first complete paragraph, in the first line, February 7, 2000, is corrected to read February 8, 2000.

2. On page 2991, in the third column, the first complete paragraph, in the third line, February 17, 2000, is corrected to read February 18, 2000.

Dated at Rockville, Maryland, this 20th day of January 2000.
For the Nuclear Regulatory Commission.
David L. Meyer,
Chief, Rules and Directives Branch, Division of Administrative Services, Office of Administration.

[FR Doc. 00-1811 Filed 1-25-00; 8:45 am]

BILLING CODE 7590-01-P